DEPARTMENT OF COMMERCE

National Oceanic and Atmospheric Administration

RIN 0648-XD196

Western Pacific Fishery Management Council; Public Meetings

AGENCY: National Marine Fisheries Service (NMFS), National Oceanic and Atmospheric Administration (NOAA), Commerce.

ACTION: Notice of public meetings.

SUMMARY: The Western Pacific Fishery Management Council (Council) will hold meetings of its and Hawaii and Pacific Remote Island Area Archipelago Plan Team (HI-PRIA PT), the Joint Hawaii, Marianas and American Samoa Archipelago Plan Team (Joint PT) and the Council's Fishery Data Collection and Research Committee—Technical Committee (FDCRC-TC). The HI-PRIA PT and Joint PT will review the status of the nearshore fisheries, data collection issues and improvements, improvements in the Annual Catch Limit (ACL) specifications, and developing Cooperative Research Priorities and conduct a workshop to estimate fishing mortality (F) and natural mortality (M) using length-based estimates. The FDCRC-TC will develop a regional strategic plan for fishery research and data collection improvements and review the Council's 5 year research priorities.

DATES: The HI-PRIA PT meeting will be held on April 8, 2014, the Joint PT meeting on April 9-11, 2014, and the FDCRC-TC meeting April 14-16, 2014. For specific times and agendas, see SUPPLEMENTARY INFORMATION.

ADDRESSES: The HI-PRIA PT, Joint PT and FDCRC-TC meetings will be held at the Council office, 1164 Bishop Street, Suite 1400, Honolulu, HI 96813; telephone: (808) 522-8220.

FOR FURTHER INFORMATION CONTACT: Kitty M. Simonds, Executive Director; telephone: (808) 522-8220.

SUPPLEMENTARY INFORMATION: Public comment periods will be provided. The order in which agenda items are addressed may change. The meetings will run as late as necessary to complete scheduled business.

Schedule and Agenda for the HI-PRIA PT Meeting

April 8, 2014—8:30 a.m.-5 p.m.

1. Welcome and Introductions

2. Approval of the Agenda & Assignment of Rapporteurs

3. Status of Fishery Monitoring Programs and Research Projects

A. Coral Reef Fisheries

i. Re-estimation of coral reef recreational fishery catches

ii. Estimation of F and M of reef fishes: insight on stock status

iii. Kumu stock assessment

iv. Uhu stock assessment

v. Proposed size limits on reef fish in Maui

B. Crustacean Fisheries

C. Precious Coral Fisheries

D. Bottomfish Fisheries

i. Main Hawaiian Island ACL Monitoring

ii. Amendment to the Hawaii Fishery Ecosystem Plan

iii. Bottomfish Working Group report: Research Component

E. Discussions

4. Discussion on the Council's 5-Year Program Plan

5. General Discussions

6. Other Business

7. Public Comment

8. Hawaii and PRIA Archipelago Plan Team recommendations

Schedule and Agenda for the Joint PT Meeting

April 9, 2014—8:30 a.m.-5 p.m.

1. Welcome and Introductions

2. Approval of Draft Agenda & Assignment of Rapporteurs

3. Report on previous Plan Team recommendations and Council actions

4. Archipelagic Fisheries Report

A. American Samoa Fisheries Module

i. Coral reef and crustacean fisheries

ii. Bottomfish fisheries

iii. Report on fishery independent surveys

iv. FADs and sportfishing report

v. Territory projects, initiatives and activities

vi. Informing creel survey adjustment factors using village-based fisheries profiles

B. Developing non-commercial catch report in the annual reports

C. Discussions

D. Public Comment

5. Administrative and regulatory updates

A. American Samoa

B. Northern Mariana Islands

C. Hawaii

D. Discussions

E. Public Comment

6. Annual Catch Limits

A. Evaluating 2013 catches relative to its respective ACLs (Action Item)

B. ACLs from the biomass-augmented catch-MSY approach

C. Discussions

D. Public Comment

7. Improving Fishery Data Collection in the Western Pacific Region

A. Stock assessment framework for coral reef fishes in Guam

B. Fishery Data Collection in the Guam Naval Base

C. Report on expansion validation and variance estimation project

D. Fishery Data Collection and Research Committee

E. Project status in the omnibus proposal for fishery data collection improvements

F. Discussions

G. Public Comment

8. Update Cooperative Research and developing priorities

9. General Discussions

10. Archipelagic Plan Team Recommendations

11. Other Business

Work Group Session on Generating Fishing and Natural Mortalities for Reef Fishes From Fishery Dependent and Independent Length Estimates

April 10, 2014-8:30 a.m.-5 p.m.

14. Workshop Introduction

A. Overview

B. Workshop Format

C. Workshop Product

15. Estimating F and M for reef fishes in Hawaii

16. Review of the length-based stock assessment approach

17. Refresher on estimating mortality rates using a length-based mortality model in Excel

18. Report out on data inventory

19. Task assignment per jurisdiction

20. Breakout session 1

A. Data compilation

B. Data standardization session

C. Literature search and drafting the report sections

21. Breakout session 2

A. Model runs

B. Result validation

C. Literature search and drafting the report sections

April 11, 2014—8:30 a.m.-5 p.m.

22. Continuation of breakout session 2

A. Model runs

B. Result validation

23. Report out on preliminary results

24. Result interpretations and report generation

25. General discussion and result consensus

Schedule and Agenda for the FDCRC-TC Meeting

April 14, 2014—8:30 a.m.-5 p.m.

1. Welcome remarks

2. Introduction

3. Understand all perspectives: analysis of strength, weakness, opportunities, and threats (SWOT)

A. American Samoa

B. Guam

C. Commonwealth of Northern Mariana Islands

D. Hawaii

E. Pacific Island Fisheries Science Center

F. University of Hawaii and University of Guam

G. Western Pacific Regional Fishery Management Council

4. Develop vision statements

5. Craft a common vision statement

6. Develop outcomes to accomplish vision

April 15, 2014—8:30 a.m.-5 p.m.

7. Review day 1

8. Discuss fisheries research and management

9. Add projects to the plan

10. Develop metrics to measure projects

11. Develop the plan

12. Next steps

April 16, 2014—8:30 a.m.-5 p.m.

13. Review of day 2

14. Develop the implementation plan

15. Develop the timeline and assignment of agency responsibilities

16. Review and update of the Council's 5 year research priorities

Although non-emergency issues not contained in this agenda may come before this group for discussion, those issues may not be the subject of formal action during these meetings. Action will be restricted to those issues specifically listed in this notice and any issues arising after publication of this notice that require emergency action under section 305(c) of the Magnuson-Stevens Fishery Conservation and Management Act, provided the public has been notified of the Council's intent to take final action to address the emergency.

Special Accommodations

These meetings are physically accessible to people with disabilities. Requests for sign language interpretation or other auxiliary aids should be directed to Kitty M. Simonds, (808) 522-8220 (voice) or (808) 522-8226 (fax), at least 5 days prior to the meeting date.

Authority: 16 U.S.C. 1801 et seq.

Dated: March 18, 2014.
Tracey L. Thompson,
Acting Deputy Director, Office of Sustainable Fisheries, National Marine Fisheries Service.

[FR Doc. 2014-06170 Filed 3-20-14; 8:45 am]

BILLING CODE 3510-22-P